DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Expenditure Survey of Highly Migratory Species Tournaments and Participants.

OMB Control Number: 0648-xxxx.

Form Number(s): None.

Type of Request: Regular (request for a new information collection).

Number of Respondents: 3,225.

Average Hours Per Response: Operator's survey, 30 minutes; participant survey, 15 minutes.

Burden Hours: 863.

Needs and Uses: This request is for a new collection of information.

The objective of the study is to collect information on the earnings and expenditures of Atlantic and Hawaii Highly Migratory Species (HMS) tournament operators and participants. The study will use two survey instruments to collect information from tournament operators and participants. One survey will ask tournament operators to characterize and quantify their operating costs and income sources in addition to describing their tournament participants. The other survey instrument will ask fishing tournament participants to estimate their expenditures associated with travel to, entering, and participating in the tournament.

The National Marine Fisheries Service (NMFS) will collect cost and earnings data from all Atlantic and Hawaii HMS tournaments registered within the year (approximately 300 based on recent years' tournament registration data). In addition, NMFS will select fifty percent of registered tournaments to distribute expenditure surveys to anglers registered for those tournament events. The Atlantic HMS Management Division is currently consulting with tournament organizers and participants to design the survey instruments to ensure NMFS captures data on all relevant expenditures.

As specified in the Magnuson-Stevenson Fishery Conservation and Management Act of 1996 (and reauthorized in 2007), NMFS is required to enumerate the economic impacts of the policies it implements on fishing participants and coastal communities. The cost and earnings data collected in this survey will be used to estimate the economic contributions and impacts of Atlantic HMS tournaments regionally.

Affected Public: Business and other for-profit organizations; individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 23, 2015.
Sarah Brabson,
NOAA PRA Clearance Officer.

[FR Doc. 2015-30166 Filed 11-25-15; 8:45 am]

BILLING CODE 3510-22-P